DEPARTMENT OF ENERGY

Federal Energy Regulatory Commission

Combined Notice of Filings #1

Take notice that the Commission received the following electric rate filings:

Docket Numbers: ER10-2432-014.

Applicants: Bayonne Plant Holding, L.L.C.

Description: Report Filing: TEM, et al. Refund Report (EL16-116) to be effective N/A.

Filed Date: 1/31/18.

Accession Number: 20180131-5258.

Comments Due: 5 p.m. ET 2/21/18.

Docket Numbers: ER10-2435-014.

Applicants: Camden Plant Holding, L.L.C.

Description: Report Filing: TEM, et al. Refund Report (EL16-116) to be effective N/A.

Filed Date: 1/31/18.

Accession Number: 20180131-5262.

Comments Due: 5 p.m. ET 2/21/18.

Docket Numbers: ER10-2442-012.

Applicants: Elmwood Park Power, LLC.

Description: Report Filing: TEM, et al. Refund Report (EL16-116) to be effective N/A.

Filed Date: 1/31/18.

Accession Number: 20180131-5266.

Comments Due: 5 p.m. ET 2/21/18.

Docket Numbers: ER10-2444-014.

Applicants: Newark Bay Cogeneration Partnership, L.P.

Description: Report Filing: TEM, et al. Refund Report (EL16-116) to be effective N/A.

Filed Date: 1/31/18.

Accession Number: 20180131-5267.

Comments Due: 5 p.m. ET 2/21/18.

Docket Numbers: ER10-2449-012.

Applicants: York Generation Company LLC.

Description: Report Filing: TEM, et al. Refund Report (EL16-116) to be effective N/A.

Filed Date: 1/31/18.

Accession Number: 20180131-5274.

Comments Due: 5 p.m. ET 2/21/18.

Docket Numbers: ER10-3272-004.

Applicants: Lower Mount Bethel Energy, LLC.

Description: Report Filing: TEM, et al. Refund Report (EL16-116) to be effective N/A.

Filed Date: 1/31/18.

Accession Number: 20180131-5268.

Comments Due: 5 p.m. ET 2/21/18.

Docket Numbers: ER15-506-002.

Applicants: DeSoto County Generating Company, LLC.

Description: Report Filing: Refund Report—Informational Filing to be effective N/A.

Filed Date: 1/31/18.

Accession Number: 20180131-5250.

Comments Due: 5 p.m. ET 2/21/18.

Docket Numbers: ER16-277-008.

Applicants: Talen Energy Marketing, LLC.

Description: Report Filing: TEM, et al. Refund Report (EL16-116) to be effective N/A.

Filed Date: 1/31/18.

Accession Number: 20180131-5249.

Comments Due: 5 p.m. ET 2/21/18.

Docket Numbers: ER16-1456-009.

Applicants: Talen Energy Marketing, LLC.

Description: Report Filing: TEM Refund Report (EL16-116) to be effective N/A.

Filed Date: 1/31/18.

Accession Number: 20180131-5256.

Comments Due: 5 p.m. ET 2/21/18.

Docket Numbers: ER16-2438-002.

Applicants: Pedricktown Cogeneration Company LP.

Description: Report Filing: TEM, et al. Refund Report (EL16-116) to be effective N/A.

Filed Date: 1/31/18.

Accession Number: 20180131-5280.

Comments Due: 5 p.m. ET 2/21/18.

Docket Numbers: ER16-2439-002.

Applicants: H.A. Wagner LLC.

Description: Report Filing: TEM, et al. Refund Report (EL16-116) to be effective N/A.

Filed Date: 1/31/18.

Accession Number: 20180131-5277.

Comments Due: 5 p.m. ET 2/21/18.

Docket Numbers: ER16-2440-002.

Applicants: Brandon Shores LLC.

Description: Report Filing: TEM, et al. Refund Report (EL16-116) to be effective N/A.

Filed Date: 1/31/18.

Accession Number: 20180131-5281.

Comments Due: 5 p.m. ET 2/21/18.

Docket Numbers: ER18-754-001.

Applicants: Southwest Power Pool, Inc.

Description: Tariff Amendment: 3391 Municipal Energy Agency of Nebraska PTP Agreement to be effective 1/1/2018.

Filed Date: 1/31/18.

Accession Number: 20180131-5241.

Comments Due: 5 p.m. ET 2/21/18.

Docket Numbers: ER18-770-000.

Applicants: Southwest Power Pool, Inc.

Description: § 205(d) Rate Filing: 3334R1 Associated Electric Cooperative NITSA and NOA to be effective 1/1/2018.

Filed Date: 1/31/18.

Accession Number: 20180131-5265.

Comments Due: 5 p.m. ET 2/21/18.

Docket Numbers: ER18-771-000.

Applicants: DeSoto County Generating Company, LLC.

Description: Tariff Cancellation: Notice of Termination for Rate Schedule FERC No. 1 to be effective 2/1/2018.

Filed Date: 1/31/18.

Accession Number: 20180131-5278.

Comments Due: 5 p.m. ET 2/21/18.

Docket Numbers: ER18-772-000.

Applicants: New Mexico Wind, LLC.

Description: Baseline eTariff Filing: New Mexico Wind, LLC Application for Market-Based Rates to be effective 3/15/2018.

Filed Date: 1/31/18.

Accession Number: 20180131-5279.

Comments Due: 5 p.m. ET 2/21/18.

Docket Numbers: ER18-773-000.

Applicants: Midcontinent Independent System Operator, Inc., Ameren Illinois Company.

Description: § 205(d) Rate Filing: 2018-02-01_SA 3028 Ameren IL-Prairie Power Project#10 Velma to be effective 1/23/2018.

Filed Date: 2/1/18.

Accession Number: 20180201-5033.

Comments Due: 5 p.m. ET 2/22/18.

Docket Numbers: ER18-774-000.

Applicants: Midcontinent Independent System Operator, Inc., Ameren Illinois Company.

Description: § 205(d) Rate Filing: 2018-02-01_SA 3028 Ameren IL-Prairie Power Project#11 Woodland to be effective 1/23/2018.

Filed Date: 2/1/18.

Accession Number: 20180201-5038.

Comments Due: 5 p.m. ET 2/22/18.

Docket Numbers: ER18-775-000.

Applicants: All American Power and Gas, LLC.

Description: Baseline eTariff Filing: Market-Based Rate Tariff Application to be effective 2/2/2018.

Filed Date: 2/1/18.

Accession Number: 20180201-5072.

Comments Due: 5 p.m. ET 2/22/18.

Docket Numbers: ER18-776-000.

Applicants: United Energy Trading, LLC.

Description: Tariff Cancellation: Notice of Cancellation of Market-Based Rate Tariff to be effective 2/2/2018.

Filed Date: 2/1/18.

Accession Number: 20180201-5073.

Comments Due: 5 p.m. ET 2/22/18.

Docket Numbers: ER18-777-000.

Applicants: Iridium Energy, LLC.

Description: Baseline eTariff Filing: Market-Based Rate Tariff Application to be effective 2/2/2018.

Filed Date: 2/1/18.

Accession Number: 20180201-5075.

Comments Due: 5 p.m. ET 2/22/18.

Docket Numbers: ER18-778-000.

Applicants: NorthWestern Corporation.

Description: § 205(d) Rate Filing: SA 810—Agreement with Powder River Energy Corporation to be effective 2/2/2018.

Filed Date: 2/1/18.

Accession Number: 20180201-5087.

Comments Due: 5 p.m. ET 2/22/18.

Docket Numbers: ER18-779-000.

Applicants: Northern States Power Company, a Minnesota corporation.

Description: § 205(d) Rate Filing: 2018-02-01 MKPC Fac Const Agrmt-Lake Park SS-0.0.0 to be effective 2/2/2018.

Filed Date: 2/1/18.

Accession Number: 20180201-5100.

Comments Due: 5 p.m. ET 2/22/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 1, 2018.
Nathaniel J. Davis, Sr.,
Deputy Secretary.

[FR Doc. 2018-02405 Filed 2-6-18; 8:45 am]

BILLING CODE 6717-01-P